DEPARTMENT OF TRANSPORTATION

Federal Transit Administration

49 CFR Chapter VI

[Docket No. FTA-2014-0012]

RIN 2132-ZA02

Interim Safety Certification Training Program Provisions

AGENCY: Federal Transit Administration (FTA), DOT.

ACTION: Notice of proposed interim safety certification training provisions; request for comments.

SUMMARY: This document seeks public comment on FTA's proposed requirements for the interim safety certification training provisions for Federal and State safety oversight personnel and their contractor support who conduct safety audits and examinations of public transportation systems not otherwise regulated by another Federal agency. Additionally, FTA proposes that designated safety oversight personnel of public transportation systems that receive Federal transit funding may voluntarily participate in the interim safety certification training program.

DATES: Comments must be received on or before June 30, 2014. Any comments received after the deadline will be considered to the extent practicable.

ADDRESSES: Please submit your comments by only one of the following methods, and please identify your submission by docket number FTA-2014-0012:

• Federal eRulemaking Portal: Go to http://www.regulations.gov and follow the online instructions for submitting comments.

• U.S. Mail: Send comments to Docket Management Facility, U.S. Department of Transportation, 1200 New Jersey Avenue SE., West Building Ground Floor, Room W12-140, Washington, DC 20590-0001.

• Fax: Send comments to Docket Operations at (202) 493-2251.

• Hand Delivery or Courier: Bring comments to Docket Operations in Room W12-140 on the ground floor of the West Building, U.S. Department of Transportation headquarters, 1200 New Jersey Avenue SE., Washington, DC, between 9 a.m. and 5 p.m. Eastern time, Monday through Friday except Federal holidays.

Instructions: You must include the agency name (Federal Transit Administration) and docket number (FTA-2014-0012) for this document at the beginning of your comments. Submit two copies of your comments if you submit them by mail. For confirmation that FTA received your comments, include a self-addressed, stamped postcard. Please be aware that all comments received will be posted without change to www.regulations.gov, including any personal information provided, and will be available to internet users. You may review DOT's complete Privacy Act Statement published in the Federal Register on April 11, 2000, at 65 FR 19477.

Docket Access: For access to the docket to read background documents and comments received, go to www.regulations.gov at any time or to the Docket Management Facility at the U.S. Department of Transportation, 1200 New Jersey Avenue SE., Washington, DC, in Room W12-140 on the ground floor of the West Building between 9 a.m. and 5 p.m. Eastern time, Monday through Friday except Federal holidays.

FOR FURTHER INFORMATION CONTACT: For program issues, contact Ruth Lyons, FTA, Office of Safety and Oversight, 1200 New Jersey Avenue SE., Washington, DC 20590 (telephone: 202-366-2233 or email: Ruth.Lyons@dot.gov). For legal issues, contact Bruce Walker, FTA, Office of Chief Counsel, 1200 New Jersey Avenue SE., Washington, DC 20590 (telephone: 202-366-9109 or email: Bruce.Walker@dot.gov). Office hours are Monday through Friday from 8 a.m. to 6 p.m. (EST), except Federal holidays.

SUPPLEMENTARY INFORMATION:

I. Overview

II. Purpose

III. Applicability

IV. Interim Safety Certification Training Provisions

A. Components of the Interim Provisions

1. Safety Management System Training Component

2. Technical Training Component

V. Next Steps and Public Participation

I. Overview

On July 6, 2012, President Obama signed into law the Moving Ahead for Progress in the 21st Century Act, Public Law 112-141, (“MAP-21”), which sets a new framework for Federal public transportation safety programs. MAP-21 provides FTA with authority to set new rules and standards for how FTA, State Safety Oversight Agencies (SSOAs), transit agencies, and other transit stakeholders will work together to ensure the safety of transit riders, employees, and the public.

As part of this safety authority, MAP-21 requires FTA to establish a safety certification training program for Federal, State, and other designated personnel directly responsible for safety oversight of public transportation systems. 49 U.S.C. 5329(c). As required by subsection (c)(1), FTA will establish a permanent training program through the rulemaking process. To that end, FTA issued an Advance Notice of Proposed Rulemaking (ANPRM) on all aspects of FTA's safety authority, including the training program, which was published in the Federal Register on October 3, 2013.¹ FTA is currently reviewing the comments received to the ANPRM and will move forward as expeditiously as possible on notices of proposed rulemakings on all aspects of the ANPRM, including the training provisions.

¹ FTA ANPRM, “The National Public Transportation Safety Plan, the Public Transportation Agency Safety Plan, and the Public Transportation Safety Certification Training Program; Transit Asset Management,” at 78 FR 61251 (Oct 3, 2013), available at http://www.gpo.gov/fdsys/pkg/FR-2013-10-03/pdf/2013-23921.pdf.

However, prior to the finalization of a permanent program, pursuant to 49 U.S.C. 5329(c)(2), Congress required FTA to establish “interim provisions” for the certification and training of safety oversight personnel. The interim provisions will be in effect until the effective date of the final rule established under subsection (c)(1).

This notice proposes the interim provisions required by 49 U.S.C. 5329(c)(2). Once the interim provisions take effect, compliance with the interim provisions will be incorporated as a grant condition for State Safety Oversight Agency (SSOA) 5329(e) grant recipients and will be a recommended voluntary activity for FTA rail fixed guideway recipients of section 5307 and 5311 funding. In addition, recognizing that safety enhancement and promotion is of universal interest within the transit industry; FTA encourages bus grant recipients to voluntarily participate in appropriate components of the interim provisions.

FTA is seeking public comment on its proposal for the interim safety certification training provisions. Following review of the public comments, FTA will publish final interim provisions, which will remain in effect until FTA issues a final rule for the safety certification training program in accordance with 49 U.S.C. 5329(c)(1).

II. Purpose

The interim safety certification training provisions are designed to support FTA's recent adoption of the Safety Management System (SMS) approach to improve the safety of public transportation.² FTA is proposing that the interim provisions consist of: (1) A required training program promoting SMS and ensuring technical competencies for State Safety Oversight Agency (SSOA) personnel and FTA personnel who conduct safety audits and examinations of public transportation systems not subject to FRA regulation; and (2) a voluntary program promoting adoption of SMS for employees of public transportation systems who are directly responsible for safety oversight. Lessons learned through this initial class of personnel will assist with shaping the development of the notice of proposed rulemaking to effect the requirements of 49 U.S.C. 5329(c)(1).

² See FTA Dear Colleague letter dated May 13, 2013 at http://www.fta.dot.gov/newsroom/12910_15391.html.

FTA recognizes the transit industry has voluntarily participated in the Transit Safety Security Program (TSSP) program since 1998, with over 700 transit system personnel and 35 SSOA personnel receiving certificates. Those who successfully completed the program were issued certificates of completion indicating broad-based training in safety and security principles applicable to transit system safety, operations and management, as well as implementation of the requirements of 49 CFR part 659. However, as FTA developed the proposed interim provisions, we evaluated the competencies of the existing TSSP and noted gaps relative to the SMS framework FTA has adopted for its safety programs.

The existing TSSP program was designed to address competencies that support the development and implementation of system safety, security, and emergency management program plans as reflected in 49 CFR part 659. Alternatively, the proposed interim program is designed to promote the implementation and oversight of SMS safety policies, risk management, safety assurance, and safety promotion programs and initiatives through the effective use of SMS tools and techniques. We note that although there are some similarities, relative to SMS principles within the requirements of 49 CFR part 659; the proposed SMS framework applies significantly more emphasis on a management level safety focus.

The objectives within the SMS curriculum were built from FTA's proposed SMS framework which uses a different approach to identifying hazards and controlling their potential consequences, continual assessment of safety risk, and an effective employee safety reporting system. The revised FTA-sponsored training will promote the development, implementation and oversight of SMS safety policies, risk management, safety assurance, and safety promotion programs and initiatives through the effective use of SMS tools and techniques, thus addressing the gaps noted with the current TSSP curriculum.

FTA believes the proposed provisions will enhance safety by focusing on organization-wide safety policy, formal methods of identifying hazards and controlling their potential consequences, continual assessment of safety risk, and an effective employee safety reporting system. Similar to the completion requirements of the current voluntary FTA-sponsored TSSP certificate program, FTA proposes that participants should complete the safety certification training program within a three (3) year timeframe.

As discussed above, FTA considered the existing voluntary TSSP program when developing the proposed interim provisions. FTA requests comment on the following:

1. Are there existing safety certification programs other than those described in this document that FTA should consider for personnel with direct safety oversight of transit systems?

2. How should FTA consider these additional training and certification programs in finalizing the interim provisions?

III. Applicability

As the rigor of safety oversight increases, we must ensure that personnel with direct safety oversight responsibility have core competencies and skills to achieve the safety goals for the public transportation industry. To promote SMS adoption throughout the public transportation industry and to improve rail transit safety oversight technical competency, FTA proposes that the “required” component of the interim provisions apply to the following “covered personnel:”

(1) FTA personnel and contractors who conduct safety audits and examinations of public transportation systems; and

(2) SSOA personnel and contractors who implement Federal safety oversight programs, including persons who conduct safety audits and examinations of rail fixed guideway public transportation systems not subject to FRA regulation.

In addition, FTA proposes that the following personnel voluntarily participate in the interim safety certification training provisions ³:

³ SMS Awareness training is strongly recommended for all employees of public transportation systems, including front line safety personnel, to assist with deploying an effective SMS.

(1) Personnel employed by recipients of section 5307 Urbanized Area Formula Grants and section 5311 Formula Grants for Rural Areas (formerly known as Non-Urbanized Formula Grants) who are directly responsible for safety oversight of rail fixed guideway public transportation systems not subject to FRA regulation.⁴

⁴ FTA proposes that all recipients identify their “covered personnel.” At a minimum, FTA expects the designation of “covered personnel” will include the General Manager/Chief Executive Officer, Chief Safety Officer, and staff directly responsible for safety oversight of the recipient's rail transit system.

(2) Personnel employed by recipients of section 5307 Urbanized Area Formula Grants and section 5311 Formula Grants for Rural Areas who are directly responsible for safety oversight of non-rail transit systems (e.g., passenger ferry, bus, bus rapid transit, and community transportation providers); and

(3) Personnel of State Departments of Transportation or other State agencies that are directly responsible for safety oversight of passenger ferry, bus, bus rapid transit, and community transportation providers that receive section 5311 Federal transit funds.

On May 31, 2012, in compliance with the Paperwork Reduction Act of 1995 (PRA) (44 U.S.C. 3501 et seq.) and the Office of Management and Budget (OMB) implementing regulation at 5 CFR 1320.13, FTA received approval from OMB for an Information Collection for the State Safety Oversight Program (Information Collection number 2132-0558). The recordkeeping necessary to comply with the proposed interim provisions is consistent with the recordkeeping required for SSOA and rail fixed guideway public transportation agency training in the approved information collection.

IV. Interim Safety Certification Training Provisions

The proposed interim training provisions initial focus is to enhance the technical competencies and capabilities of Federal and State personnel and contractors who conduct safety audits and examinations of rail fixed guideway public transportation systems, as well as rail transit personnel who are directly responsible for safety oversight for these systems. FTA recognizes the important role of its State partners in performing this public safety function. However, under the current regulatory construct, there is no uniformity with regard to training requirements. As a result, varying degrees of proficiency and professional knowledge, along with inconsistent application of safety requirements have developed. Additionally, FTA recognizes the benefit of allowing safety oversight personnel of rail fixed guideway systems to share in the opportunity to receive similar training as those who audit their safety activities.

As a first step, FTA is proposing to organize these interim training provisions around a series of competencies and basic skills that support training gaps indicated in National Transportation Safety Board accident investigations, FTA State Safety Oversight Agency (SSOA) audits, triennial reviews and annual reports submitted by SSOAs, and FTA's National Transit Database assessments and special studies. The competencies are based on SMS principles and the technical capabilities required for examining and overseeing implementation of safety program elements in the transit industry. A list of proposed competency areas and accompanying learning objectives are listed in this document as Appendix A to the Proposed Interim Provisions for Safety Certification Training—Competency Areas.

A consistent gap noted throughout our findings is the need to enhance the ability to effectively manage safety risks. FTA believes the interim provisions competencies will support key features of SMS to include: (1) Improving management accountability of safety; (2) further collaboration between management and labor to effectively prioritize safety hazards; (3) more effectively managing safety resource allocation; (4) improving safety risk analysis; and (5) broadening safety assurance through increased confidence in safety risk controls.

Supporting documents used to identify the training gaps and the proposed competencies, as well as a list frequently asked questions (FAQs) may be reviewed with the docket for this document and may also be viewed at the following weblink: http://www.fta.dot.gov/tso_15918.html. Below are a few examples of documentation that support the competencies FTA is proposing for the interim provisions:

• Government Accountability Office (GAO) Reports with Discussion and/or Findings relating to SSO training and qualification: http://www.gao.gov/products/GAO-11-199.

• Rail Transit: Observations on FTA's State Safety Oversight Program and Potential Change in Oversight Role GAO-10-293T: Published: Dec. 8, 2009. Publicly Released: Dec. 8, 2009. http://www.gao.gov/products/A88569.

• National Transportation Safety Board Hearing; Collision of Two Washington Metropolitan Area Transit Authority Metrorail Trains Near Fort Totten Station http://www.ntsb.gov/doclib/reports/2010/RAR1002.pdf.

• National Transportation Safety Board Accident Brief: Collision between Two Miami-Dade Transit Metromovers: http://www.ntsb.gov/investigations/fulltext/RAB1206.html.

A. Components of the Interim Provisions

FTA proposes that “covered personnel” of FTA, SSOAs, and applicable contractor support be required to complete a series of courses and engage in structured training as noted below. In addition, covered personnel of rail fixed guideway transit systems will be allowed to voluntarily participate in this proposed curriculum.

The proposed interim safety certification training provisions will contain two distinct components. First, covered personnel will complete a series of training courses on SMS principles, tools and techniques. FTA began the first phase of course pilots in February 2014, and anticipates the initial rollout of courses by September 2014. Second, and as discussed further in section 2 below, FTA and SSOA personnel and their respective contractor support will be required to develop technical training covering the competency areas specific to the rail transit system(s) for which safety oversight responsibility is exercised (e.g., track inspections, safety systems and technologies, traction power, etc.).

Upon satisfactory completion of the applicable requirements as noted below, FTA proposes to provide a certificate of completion, indicating that the individual has satisfied the requirements of the interim training provisions. The certificate will expire one (1) year after it is issued and will require annual refresher training to maintain its validity. However, FTA believes that the final rule implementing the Public Transportation Safety Certification Training Program will be in effect before any of the interim certifications expire; therefore, FTA will ensure that training completed under the interim provisions will be factored into the development of the final rule.

To maximize participation, FTA is proposing that a significant share of the cost associated with the interim provisions be eligible for Federal funding. Recipients of sections 5307 or 5311 funds may use up to 0.5 percent of those funds to cover up to 80 percent of the cost of participation by an employee with direct safety oversight responsibility for the public transportation system. Participation by SSOA personnel with direct safety oversight responsibilities may be an eligible expense for section 5329(e)(6)(A) funds.

1. Safety Management System Training Component

As noted above, FTA has identified competencies that reinforce the four (4) functional components of SMS—safety policy, risk management, safety assurance, and safety promotion—which are described in Appendix A to the Proposed Interim Provisions for Safety Certification Training—Competency Areas. SMS is a management approach that ensures each public transportation agency, no matter its size or service environment, has the necessary organizational structures, accountabilities, policies and procedures in place to direct and control resources to optimally manage safety.

The proposed interim SMS training for mandatory and voluntary participants will be tailored to the role of the employee and the mode of public transportation. To that end, FTA is proposing to revise existing training and creating new courses to promote SMS-centric competencies. The revised competencies will expand training beyond the current TSSP Certificate program which was developed to support the implementation of system safety, security, and emergency management program plans. Although the proposed interim curriculum is largely focused on SMS and technical training; FTA request comments concerning other programs or approaches that may enhance the professional and technical skills of covered personnel and public transit personnel with direct safety oversight responsibility.

As noted above, similar to the TSSP Certificate program, FTA is proposing that the training be completed within a three (3) year period. Once covered personnel receive their certificate of completion, annual refresher training will be required to maintain the certificate. If a required participant does not attain or maintain their certificate within the designated timeframe, FTA proposes the person will not be able to perform their functions or be paid using FTA funds. It will be the responsibility of those covered under this program to maintain certificates and refresher training records, which will be subject to audit under the SSOA program.

Also similar to the TSSP Certificate program, FTA proposes that each of the SMS courses will include up to three (3) days of training (except for the one (1) day SMS Leadership course and the one (1) hour SMS Awareness course). The estimated length of the training was derived from an evaluation of the proposed competencies and associated learning objectives and the amount of time required to deliver the content. This is approximately 144 hours of class time over the three (3) year period between FY 2014 and FY 2016 for the participants. The week-long indication below is an estimate, as it includes training time along with days for potential travel. However, we note that the existing FTA training model focuses on delivering courses at local host agencies which reduces travel requirements for the majority of participants. FTA plans to continue this delivery model for the interim safety certification training program which would continue to reflect the reduced cost and burden associated with local attendance. Below is the proposed curriculum for the interim provisions:

Required Curriculum:

• FTA and SSOA personnel and contractors ⁵—six (6) one (1) week courses (two (2) days of travel, three (3) days class time):

⁵ FTA anticipates that this would include approximately 40 FTA personnel and contractors and 70 to 120 SSOA personnel.

One (1) hour course on SMS Awareness—e-learning delivery

Level 100: SMS Principles for Rail Transit

Level 101: SMS Principles for SSO Programs

Level 200: Advanced SMS Principles for Rail Transit

Level 201: Advanced SMS Risk Management

Level 300: SMS Risk Control Strategies

Level 301: SMS Assurance and Auditing Normal Operations and Risk Controls

SMS Executive Leadership—one (1) day course

Voluntary Curriculum:

• Transit agency personnel with direct responsibility for safety oversight of rail transit systems not subject to FRA regulation ⁶—five (5) one week courses (two (2) days of travel, three (3) days class time):

⁶ FTA anticipates that this will include approximately 260 transit agency personnel.

One (1) hour course on SMS Awareness—e-learning delivery

Level 100: SMS Principles for Rail Transit

Level 200: Advanced SMS Principles for Rail Transit

Level 201: Advanced SMS Risk Management

Level 300: SMS Risk Control Strategies

Level 301: SMS Assurance through Auditing Normal Operations and Risk SMS Executive Leadership—one (1) day course

• Non-rail transit Section 5307 and 5311 recipient executive leadership ⁷—One (1) day course:

⁷ FTA estimates that approximately 200 executives would be eligible for this voluntary training.

SMS Executive Leadership—one (1) day course

• Non-rail transit Section 5307 and 5311 recipient personnel with direct safety oversight responsibility and State DOTs overseeing safety programs for 5311 sub-recipients ⁸—two (2) one (1) week courses (two (2) days of travel, three (3) days class time):

⁸ FTA estimates that approximately 100 to 275 staff from larger 5307/5311recipients, approximately 1500 staff from smaller 5307/5311 recipients, and 30 staff from state DOT's would be eligible for this voluntary training.

One (1) hour course on SMS Awareness—e-learning delivery

Level 102: SMS Principles for Bus Transit

Level 202: Advanced SMS Principles for Bus Transit

• Employee of any non-rail transit FTA recipient ⁹—one (1) hour course

⁹ FTA has not estimated how many people would be eligible for this voluntary training.

SMS Awareness—e-learning delivery

We also note that FTA will continue to sponsor safety initiatives for bus transit agencies, including small and rural systems, as well as other recipients of Federal public transportation funds. For example, personnel can log on to FTA's Bus Transit Safety Program Web site (http://bussafety.fta.dot.gov/) and complete the safety self-assessment and participate in the soon-to-be-released e-learning series. FTA strongly encourages safety professionals in each of these communities to continue to voluntarily participate in these safety initiatives, as well as participate in applicable courses developed for the interim provisions.

Further, FTA is proposing a one-hour SMS Awareness course that will have universal applicability throughout the public transportation industry. Since a critical element of SMS is safety awareness at all levels of an organization, FTA encourages transit system personnel at all levels to voluntarily participate in the one-hour SMS Awareness training when it becomes available online.

The proposed interim provisions are intended as an initial step to improving the technical proficiency and competency of those directly responsible for safety oversight. However, it is important to note that concurrently, FTA is in the process of proposing a regulatory framework for safety certification training. Participating in the interim provisions program not only enhances public transit safety in the near term, but will better position participants for safety training requirements likely to be proposed in future safety certification training rulemakings.

As discussed above, the proposed interim provisions will have mandatory and voluntary components. FTA requests comment on the following:

3. The proposal to require Federal and State Safety Oversight Agency personnel and their contractor support to participate in the interim provisions but allow the voluntary participation of public transportation personnel with direct safety oversight responsibilities.

4. Are there segments of the existing TSSP program that might be utilized to address the gaps and proposed competencies identified by FTA?

5. Is it possible to reduce the time commitment or other burdens associated with the proposed interim provisions, while still providing the necessary SMS and technical training? What additional or alternative training should be considered, and why?

2. Technical Training Component

In addition to the SMS training component above, FTA proposes the second component of the interim provisions will require FTA and each SSOA to develop a technical training program for covered personnel and contractor support personnel who perform safety audits and examinations. FTA proposes that each SSOA submit its interim technical training program to FTA for review and evaluation as part of the ongoing SSOA certification program under 49 U.S.C. 5329(e)(7). This review and approval process would support the consultation required between FTA and SSOAs regarding the staffing and qualification of the SSOAs' employees and other designated personnel in accordance with 49 U.S.C. 5329(e)(3).

Recognizing that each rail fixed guideway public transportation system has unique characteristics, FTA proposes that each technical training program identify the tasks related to inspections, examinations, and audits, and all activities requiring sign-off, which must be performed by the SSOA to carry out its safety oversight requirements, and identify the skills and knowledge necessary to perform each task at that system. At a minimum, each program will include technical training in the following competency areas appropriate for the specific rail fixed guideway system(s) for which safety audits and examinations are conducted:

• Knowledge of the organizational structure of the rail transit system(s).

• Agency Safety Plans.

• Agency Safety Audit Process.

• Rulebooks.

• Vehicles.

• Track (to include track inspection).

• Tunnels and structures.

• Traction power.

• Signal systems.

• Safety systems and technologies.

• Safety human factors.

The length of time for the technical training will depend on the skill level of the SSOA personnel. However, we would anticipate no less than one-week per year of technical training, in addition to the 2 weeks per year for the SMS training. To that end, FTA proposes that each SSOA technical training program that is submitted for review and approval will:

○ Include both classroom and hands-on lessons designed to impart the skills and knowledge identified as necessary to perform each task (to include competency areas listed above). The curriculum should specifically address the performance of the tasks identified.

○ Require covered personnel to successfully:

Complete training that covers the skills and knowledge the covered personnel will need to effectively perform his or her tasks.

Pass a written and/or oral examination covering the skills and knowledge required for the covered personnel to effectively perform his or her tasks.

Individually demonstrate hands-on capability to perform his or her tasks to the satisfaction of the appropriate SSOA supervisor or designated instructor.

○ Develop a process to ensure that covered personnel are appropriately participating in the training program or have successfully completed it.

○ Establish equivalencies or conduct written and oral examinations to allow covered personnel to demonstrate that they possess the skill and qualification required to perform their tasks.

○ Require annual refresher training to maintain technical skills and abilities which includes classroom and hands-on training, as well as testing. Observation and evaluation of actual performance of duties may be used to meet the hands-on portion of this requirement, provided that such testing is documented.

○ Require that adequate records be maintained to demonstrate the current qualification status of covered personnel assigned to carry out the oversight program. Records may be maintained either electronically or in writing and must be provided to FTA upon request. Records must include the following information concerning each covered personnel:

Name;

The date each training course was completed and the proficiency test score(s);

The content of each training course successfully completed;

A description of the covered personnel's hands-on performance applying the skills and knowledge required to perform the tasks that the employee will be responsible for performing and the factual basis supporting the determination;

The tasks the covered personnel is deemed qualified to perform; and

Provide the date that the covered personnel's status as qualified to perform the tasks expires, and the date in which annual refresher training is due.

○ Establish a program to ensure the qualification of contractors performing oversight activities. SSOAs may use demonstrations, previous training and education, and written and oral examinations to determine if contractors possess the skill and qualification required to perform their tasks.

○ Periodically assess the effectiveness of the technical training program. One method of validation and assessment could be through the use of efficiency tests or periodic review of employee performance.

With regard to the technical training described above, FTA request comments on the following:

6. Is it possible to reduce the time commitment or other burdens associated with the proposed technical training requirements proposed for SSOA personnel and their contractors? Is there additional or alternative technical training that should be considered, and why?

V. Next Steps and Public Participation

This document seeks input from the public on FTA's implementation of new interim safety certification training provisions to ensure they are clear, effective, and reasonable. It is important that transit agencies, State DOTs, SSOAs, and other organizations that could potentially be affected by these interim provisions, as well as any other interested members of the public, take this opportunity to share thoughts, concerns, ideas, and general comments on the topics presented herein.

After FTA reviews the comments collected through this document, FTA will publish final interim safety training certification provisions. FTA will also continue to develop a permanent training program through the separate rulemaking process. Although the two processes will remain separate, the agency anticipates that its experience with the interim provisions will assist with the development of a proposed rule for the Public Transportation Safety Certification Training program under 49 U.S.C. 5329(c)(1).

Issued in Washington, DC, pursuant to authority under 49 CFR § 1.91.
Therese W. McMillan,
Deputy Administrator.

Appendix A to the Proposed Interim Provisions for Safety Certification Training—Competency Areas

Competency area | Description of competency
SMS Awareness | • Orient participants to the general concepts in safety management systems (SMS).
| • Introduce participants to the importance of data-driven decision making for SMS implementation in the public transportation industry.
| • Describe safety management systems as a data-driven decision making system for management.
| • Understand safety risk management and safety assurance.
| • List the activities and tools underlying safety risk management and safety assurance.
SMS Leadership | • List the advantages of effective safety management and the benefits that FTA anticipates SMS adoption will bring the transit industry.
| • Categorize the activities performed by an Accountable Executive and explain why he or she is so important to effective SMS implementation.
| • Recognize and describe the four major components of FTA's SMS framework.
| • Identify and describe how to proactively utilize the interfaces between SMS, Finance, Human Resources and Asset Management to support executive decision-making.
| • List specific tools that help executives incorporate SMS into their decision-making.
| • Classify the SMS leadership activities that executives can perform as part of their day-to-day management process.
Level 100: SMS Principles for Rail Transit | • Detail how and why FTA came to adopt the SMS framework as the foundation of its new safety regulatory program. • State and describe the four major components and 12 elements of FTA's SMS framework.
| • Write a sample Safety Policy Statement that ensures executive accountability and commitment for safety.
| • Provide and discuss sample safety objectives and key performance indicators (KPIs) used at your agency.
| • Distinguish among traditional system safety risk management approaches and the types of analyses required for SMS framework implementation.
| • List and describe SMS safety assurance tools and techniques.
| • Identify sources of operating and maintenance data to support the safety review of normal operations.
| • Describe the major activities that can be performed to promote SMS and safety communication with transit employees.
| • Discuss and outline the needed activities and timeline for SMS implementation from initial policy commitment through gap assessment and implementation planning to training and monitoring.
| • Recognize and explain the purpose of the SMS Gap Analysis Tool and complete sample sections.
| • Present and discuss results of sample SMS Gap Analysis with classmates and instructor.
| • Categorize information from SMS Gap Analysis into the SMS Implementation Plan.
| • Demonstrate proficiency in the use of FTA-supplied materials, including SMS Guidebook and supporting forms.
Level 101: SMS Principles for SSO Programs | • Discuss and demonstrate the correct usage of SMS and rail transit terminology and nomenclature. • Identify and discuss the major objectives in overseeing and evaluating SMS implementation in the rail transit environment.
| • Compare and contrast the four major components and 12 elements in FTA's SMS framework with the existing 49 CFR Part 659 regulation.
| • Identify and discuss performance measures and tools to assess rail transit safety performance.
| • Develop a sample SMS surveillance plan for a rail transit agency in your jurisdiction applicable to the level of SMS implementation at the rail transit agency.
| • Illustrate and list safety risk management and safety assurance tools that can be used to support safety oversight.
| • Demonstrate how to intervene effectively with the rail transit agency based on monitoring of SMS surveillance plan.
| • Detail the phases of transition in SMS implementation and potential pitfalls and areas of concern for both the rail transit agency and the SSO agency.
Level 102: SMS Principles for Bus Transit | • Detail how and why FTA came to adopt the SMS framework as the foundation of its new safety regulatory program. • State and describe the four major components and 12 elements of FTA's SMS framework.
| • Demonstrate how to use FTA's SMS gap assessment and implementation planning tools for bus transit agencies.
| • Identify safety risk management and safety assurance tools and techniques and how to apply them in the bus transit environment.
| • Describe the major activities that can be performed to promote SMS and safety communication throughout the bus transit agency.
| • Categorize performance measures and activities that can be used to monitor the implementation of the SMS at the bus transit agency.
Level 200: Advanced SMS Principles for Rail Transit | • Illustrate how to assess a safety policy statement for thoroughness and effectiveness of safety objectives and performance targets. • Describe ways in which the accountable executive should be committed to safety and use safety inputs in decision-making.
| • Summarize and list the safety responsibilities of key management personnel and committees in the rail transit environment.
| • Highlight typical SMS documentation control procedures.
| • Compare and contrast different hazard identification and risk management methods and approaches.
| • Outline the steps in safety action planning in the rail transit environment.
| • Discuss key elements in safety performance monitoring, including auditing and real-time monitoring of rail transit operations.
| • Describe how incident investigation and reporting using SMS principles differs from existing requirements in 49 CFR Part 659.
| • Outline how the management of change (including organizational changes with regard to safety responsibilities) can be approached in the transit industry.
| • List ten major activities to support safety promotion.
| • Describe the risk to transit organizations from human factors and human performance issues.
Level 201: Advanced SMS Risk Management | • Explain the purpose of Safety Risk Management in SMS. • Identify and lists weaknesses in the identification of hazards in recent transit accidents and incidents.
| • In FTA's SMS framework, detail when to perform a System Description and Task Analysis and explain how this analysis helps identify hazards.
| • Describe the elements of a System Description and Task Analysis, including the following steps:
| ○ Define the system and task(s) under analysis, including:
| Function and purpose of the system.
| The system's operating environment.
| An outline of the system's processes and procedures.
| The personnel, equipment, and facilities necessary for operation of the system.
| ○ Consider how the following attributes work within the system and task(s) under analysis to ensure its safe operation, including:
| Responsibility.
| Authority.
| Procedures and practices.
| Controls placed on equipment and personnel.
| Process measurements on tasks and activities.
| Interfaces among the hardware, software, people, and environment that make up the system.
| ○ Assess the system and task(s) under analysis for hazards and risks.
| • Describe how to document the identified hazards and risks, depending on the size of the public transportation agency and the complexity of its operations:
| ○ In a list, matrix or table.
| ○ Through a mapping process in flow charts (e.g., block flow diagram) or process maps (e.g., block flow procedural process map or a cross-functional process map).
| ○ In deductive or inductive system safety analyses.
| ○ Using computer models.
| ○ In other methods established by the public transportation agency.
| • Describe the steps needed to develop and maintain processes to analyze safety risk associated with the hazards identified in the system analyses.
| • Define a process for conducting risk assessment that allows for the determination of acceptable safety risk.
| • List potential processes to develop safety risk controls that are necessary as a result of the safety risk assessment process.
| • Explain how to evaluate whether the risk will be acceptable with a proposed safety risk control applied, before the safety risk control is implemented.
| • Discuss the pros and cons of mandatory employee reporting systems for hazard identification.
Level 202: Advanced SMS Principles for Bus Transit | • Describe ways in which the accountable executive should be committed to safety and use safety inputs in decision-making. • Summarize and list the safety responsibilities of key bus management personnel and committees.
| • List the major purpose of the SMS Manual and identify the key components for a bus agency.
| • Define typical SMS safety data/records management requirements for an SMS at a bus transit agency.
| • Characterize an effective safety assurance program in the bus transit environment.
| • List types of reactive safety issue identification (events, incidents, accidents).
| • Describe proactive safety issue identification approaches.
| • Compare and contrast different risk assessment methods used in the bus transit industry.
| • Demonstrate investigation and problem-solving skills.
| • Review corrective action planning & implementation practices.
| • Understand transit industry and agency risk profiles.
| • Demonstrate proficiency in the use of additional FTA-supplied materials, including SMS Guidebook and supporting forms.
Level 300: SMS Risk Control Strategies | • Explain why there is no such thing as “absolute safety” in public transportation, but that risks can be managed to a level “as low as reasonably practicable” (ALARP). • Demonstrate the ways in which risk mitigation and control must be balanced against: time, cost, and the difficulty of taking measures to reduce or eliminate the risk.
| • Describe how effective risk management seeks to maximize the benefits of accepting a risk (a reduction in time and cost) while minimizing the risk itself.
| • Communicate the rationale for risk decisions to gain acceptance by stakeholders affected by them.
| • Describe the three basic risk mitigation strategies.
| • Describe and list the steps in the “hierarchy of controls” for hazards.
| • Identify and discuss the relative merits of the “layers of protection” approach to controlling hazards.
| • Explain how to monitor and measure risk control performance levels.
| • Evaluate how data flow and analysis processes can support the assessment of the performance of risk control strategies.
| • Develop a monitoring plan for the implementation of risk control strategies at the transit agency.
Level 301: SMS Assurance and Auditing Normal Operations and Risk Controls | • Explain how safety assurance activities support the accountable executive and board of directors in making decisions and recommendations regarding resource allocation. • Demonstrate application of SMS tools and approaches in the investigation of accidents and incidents and the development and oversight of corrective action plans.
| • Detail the steps required to establish and manage mandatory and voluntary employee reporting systems.
| • Outline and discuss approaches to internal safety audits and surveys that support SMS performance monitoring.
| • Explain why SMS implementation must be coordinated quality assurance audits.
| • Discuss coordination required monitor normal operations using data management, mining and analysis at the transit agency.
| • Demonstrate capability to manage the conduct of safety reviews, examinations and audits and tracking of findings at rail transit agency.
| • Explain how safety certification for capital projects is managed in the SMS framework.
| • Propose performance measures and monitoring activities to oversee risk controls at rail transit agency.
Alternative training available for: • Level 102: SMS Principles for Bus Transit • Level 202: Advanced SMS Principles for Bus Transit | Alternative voluntary training may be developed by FTA in partnership with the Community Transportation Association of America (CTAA) for Executive Leadership and personnel with direct responsibility for safety at Section 5311 sub-recipients and personnel at State DOTs responsible for overseeing Section 5311 sub-recipients.

[FR Doc. 2014-09778 Filed 4-29-14; 8:45 am]

BILLING CODE P